DEPARTMENT OF ENERGY

Federal Energy Regulatory Commission

Combined Notice of Filings No. 1

December 2, 2010.

Take notice that the Commission received the following electric corporate filings:

Docket Numbers: EC11-12-000.

Applicants: Agri Beef Co., E. Robert Mooney, Mendata LP, Brookfield Power US Holding America Co.

Description: Errata filing of Mendata, LP, Agri Beef Co., E. Robert Mooney and Brookfield Power US Holding America Co.

Filed Date: 11/29/2010.

Accession Number: 20101129-5174.

Comment Date: 5 p.m. Eastern Time on Thursday, December 09, 2010.

Take notice that the Commission received the following electric rate filings:

Docket Numbers: ER00-1816-010; ER97-324-022; ER97-3834-027; ER05-1469-006; ER07-415-006; ER01-2317-012; ER08-1418-005; ER10-663-004; ER09-1061-004.

Applicants: DTE Pontiac North LLC, DTE Energy Trading, Inc., The Detroit Edison Company, DTE Stoneman, LLC, DTE River Rouge No. 1, LLC, DTE East China, LLC, Metro Energy, LLC, DTE Energy Supply, Inc., Woodland Biomas Power, Ltd.

Description: Notice of Change in Status of The Detroit Edison Company, et. al.

Filed Date: 11/30/2010.

Accession Number: 20101130-5320.

Comment Date: 5 p.m. Eastern Time on Tuesday, December 21, 2010.

Docket Numbers: ER01-2317-011; ER97-324-021; ER97-3834-027; ER05-1469-005; ER07-415-006; ER00-1816-009; ER08-1418-004; ER10-663-003; ER09-1061-003.

Applicants: Metro Energy, LLC; DTE Pontiac North LLC, DTE Energy Trading, Inc., The Detroit Edison Company, DTE Stoneman, LLC, DTE River Rouge No. 1, LLC, DTE East China, LLC, Metro Energy, LLC, DTE Energy Supply, Inc., Woodland Biomas Power, Ltd.

Description: Notice of Non-Material Change in Status of The Detroit Edison Company, et al.

Filed Date: 11/30/2010.

Accession Number: 20101130-5237.

Comment Date: 5 p.m. Eastern Time on Tuesday, December 21, 2010.

Docket Numbers: ER03-198-017.

Applicants: Pacific Gas and Electric Company.

Description: Notice of Non-Material Change in Status of Pacific Gas and Electric Company.

Filed Date: 12/01/2010.

Accession Number: 20101201-5086.

Comment Date: 5 p.m. Eastern Time on Wednesday, December 22, 2010.

Docket Numbers: ER10-1128-001.

Applicants: Commonwealth Edison Company.

Description: Commonwealth Edison Company submits its baseline tariff for ComEd PSRT-1, to be effective 11/9/2010.

Filed Date: 12/01/2010.

Accession Number: 20101201-5003.

Comment Date: 5 p.m. Eastern Time on Wednesday, December 22, 2010.

Docket Numbers: ER10-1511-001; ER10-1714-001; ER10-2231-001; ER10-3247-002.

Applicants: Kentucky Utilities Company, Louisville Gas & Electric Company, Electric Energy, Inc., LG&E Energy Marketing Inc.

Description: Notice of Change in Status Regarding Market-Based Rate Authority of the PPL Companies.

Filed Date: 12/01/2010.

Accession Number: 20101201-5274.

Comment Date: 5 p.m. Eastern Time on Wednesday, December 22, 2010.

Docket Numbers: ER10-1602-002.

Applicants: Beech Ridge Energy LLC.

Description: Beech Ridge Energy LLC submits tariff filing per 35: Supplemental Category 1 Exemption Filing to be effective 10/30/2010.

Filed Date: 11/19/2010.

Accession Number: 20101119-5034.

Comment Date: 5 p.m. Eastern Time on Friday, December 10, 2010.

Docket Numbers: ER10-2126-001.

Applicants: Idaho Power Company.

Description: Idaho Power Company submits their Baseline Filing to Comply with Order No. 714, to be effective 12/1/2010.

Filed Date: 12/02/2010.

Accession Number: 20101202-5001.

Comment Date: 5 p.m. Eastern Time on Thursday, December 23, 2010.

Docket Numbers: ER10-2214-002.

Applicants: Zion Energy LLC.

Description: Zion Energy LLC submits tariff filing per 35.17(b): Reactive Power Settlement Agreement to be effective 12/1/2010.

Filed Date: 11/30/2010.

Accession Number: 20101130-5233.

Comment Date: 5 p.m. Eastern Time on Friday, December 10, 2010.

Docket Numbers: ER10-2820-001.

Applicants: Louisville Gas and Electric Company.

Description: Louisville Gas and Electric Company submits tariff filing per 35: 12_1_10 Errata to 092210 AttachM IIS ER10_2820 to be effective 9/23/2010.

Filed Date: 12/01/2010.

Accession Number: 20101201-5200.

Comment Date: 5 p.m. Eastern Time on Wednesday, December 22, 2010.

Docket Numbers: ER11-65-001.

Applicants: Capitol District Energy Center Cogeneration Associates

Description: Capitol District Energy Center Cogeneration Associates submits tariff filing per 35.17(b): Amendment to Revised Market-Based Rate Tariff to be effective 10/9/2010.

Filed Date: 12/02/2010.

Accession Number: 20101202-5019.

Comment Date: 5 p.m. Eastern Time on Thursday, December 23, 2010.

Docket Numbers: ER11-93-001.

Applicants: Midwest Independent Transmission System Operator, Inc.

Description: Midwest Independent Transmission System Operator, Inc. submits tariff filing per 35.17(b): G252 Amendment to be effective 10/14/2010.

Filed Date: 12/01/2010.

Accession Number: 20101201-5177.

Comment Date: 5 p.m. Eastern Time on Wednesday, December 22, 2010.

Docket Numbers: ER11-1976-001.

Applicants: Midwest Independent Transmission System Operator, Inc.

Description: Midwest Independent Transmission System Operator, Inc. submits tariff filing per 35.17(b): MidAmerican-Lake View WDS Errata to be effective 1/1/2011.

Filed Date: 11/02/2010.

Accession Number: 20101102-5125.

Comment Date: 5 p.m. Eastern Time on Thursday, December 09, 2010.

Docket Numbers: ER11-2039-001.

Applicants: E-T Global Energy, LLC.

Description: E-T Global Energy, LLC submits Petition for Acceptance of Initial Tariff, Waivers and Blanket Authority, FERC Electric Tariff Amendment, to be effective 12/1/2010.

Filed Date: 12/01/2010.

Accession Number: 20101201-5000.

Comment Date: 5 p.m. Eastern Time on Wednesday, December 22, 2010.

Docket Numbers: ER11-2087-001.

Applicants: FC Landfill Energy, LLC.

Description: FC Landfill Energy, LLC submits tariff filing per 35: Refund Report to be effective N/A.

Filed Date: 11/30/2010.

Accession Number: 20101130-5235.

Comment Date: 5 p.m. Eastern Time on Tuesday, December 21, 2010.

Docket Numbers: ER11-2225-000.

Applicants: New England Power Pool Participants Committee.

Description: New England Power Pool Participants Committee submits tariff filing per 35.1: December 2010 Membership Filing to be effective 12/1/2010.

Filed Date: 11/30/2010.

Accession Number: 20101130-5231.

Comment Date: 5 p.m. Eastern Time on Tuesday, December 21, 2010.

Docket Numbers: ER11-2226-000.

Applicants: Westar Energy, Inc.

Description: Westar Energy, Inc. submits tariff filing per 35.12: Confirmation Letter with Kansas Electric Power Cooperative, Inc. to be effective 9/1/2010.

Filed Date: 11/30/2010.

Accession Number: 20101130-5236.

Comment Date: 5 p.m. Eastern Time on Tuesday, December 21, 2010.

Docket Numbers: ER11-2227-000.

Applicants: Ashtabula Wind, LLC.

Description: Ashtabula Wind, LLC submits tariff filing per 35.12: Ashtabula Wind, LLC and Ashtabula Wind III, LLC SFA Filing to be effective 12/1/2010.

Filed Date: 11/30/2010.

Accession Number: 20101130-5250.

Comment Date: 5 p.m. Eastern Time on Tuesday, December 21, 2010.

Docket Numbers: ER11-2228-000.

Applicants: Niagara Mohawk Power Corporation.

Description: Niagara Mohawk Power Corporation submits Supplemental Informational Filing to the 2010 Annual Update of Formula Transmission Rate Supported by Stipulation.

Filed Date: 11/18/2010.

Accession Number: 20101118-5178.

Comment Date: 5 p.m. Eastern Time on Friday, December 10, 2010.

Docket Numbers: ER11-2229-000.

Applicants: Southern California Edison Company.

Description: Southern California Edison Company submits tariff filing per 35.13(a)(2)(iii): Letter Agreement AV Solar Ranch One Project SA 92 to be effective 11/22/2010.

Filed Date: 12/01/2010.

Accession Number: 20101201-5066.

Comment Date: 5 p.m. Eastern Time on Wednesday, December 22, 2010.

Docket Numbers: ER11-2230-000.

Applicants: The United Illuminating Company.

Description: The United Illuminating Company submits tariff filing per 35.1: United Illuminating-GenConn Middletown Localized Costs Sharing Agreement to be effective 1/1/2011.

Filed Date: 12/01/2010.

Accession Number: 20101201-5067.

Comment Date: 5 p.m. Eastern Time on Wednesday, December 22, 2010.

Docket Numbers: ER11-2231-000.

Applicants: Florida Power Corporation.

Description: Florida Power Corporation submits tariff filing per 35.13(a)(2)(iii): Rate Schedule No. 199 of Florida Power Corporation to be effective 1/1/2011.

Filed Date: 12/01/2010.

Accession Number: 20101201-5076.

Comment Date: 5 p.m. Eastern Time on Friday, December 10, 2010.

Docket Numbers: ER11-2232-000.

Applicants: Public Service Company of Colorado.

Description: Public Service Company of Colorado submits tariff filing per 35: 12.1.2010_Wholesale Rate Case Compliance to be effective 7/19/2010.

Filed Date: 12/01/2010.

Accession Number: 20101201-5107.

Comment Date: 5 p.m. Eastern Time on Wednesday, December 22, 2010.

Docket Numbers: ER11-2233-000.

Applicants: Perryman Power, LLC.

Description: Perryman Power, LLC submits tariff filing per 35.15: Perryman Cancellation Filing to be effective 12/2/2010.

Filed Date: 12/01/2010.

Accession Number: 20101201-5109.

Comment Date: 5 p.m. Eastern Time on Wednesday, December 22, 2010.

Docket Numbers: ER11-2234-000.

Applicants: Lower Mount Bethel Energy, LLC.

Description: Lower Mount Bethel Energy, LLC submits Notice of Change in Status regarding Market-Based Rate Authority, to be effective 11/1/2010.

Filed Date: 12/01/2010.

Accession Number: 20101201-5110.

Comment Date: 5 p.m. Eastern Time on Wednesday, December 22, 2010.

Docket Numbers: ER11-2235-000.

Applicants: PPL Brunner Island, LLC.

Description: PPL Brunner Island, LLC submits tariff filing per 35: PPL Brunner Island, LLC's Notice of Change in Status Market-Based Rate Filing to be effective 11/1/2010.

Filed Date: 12/01/2010.

Accession Number: 20101201-5111.

Comment Date: 5 p.m. Eastern Time on Wednesday, December 22, 2010.

Docket Numbers: ER11-2236-000.

Applicants: PPL Colstrip I, LLC.

Description: PPL Colstrip I, LLC submits tariff filing per 35: PPL Colstrip I, LLC's Notice of Change in Status Market-Based Rate Filing to be effective 11/1/2010.

Filed Date: 12/01/2010.

Accession Number: 20101201-5113.

Comment Date: 5 p.m. Eastern Time on Wednesday, December 22, 2010.

Docket Numbers: ER11-2237-000.

Applicants: PPL Colstrip II, LLC.

Description: PPL Colstrip II, LLC submits tariff filing per 35: PPL Colstrip II, LLC's Notice of Change in Status Market-Based Rate Filing to be effective 11/1/2010.

Filed Date: 12/01/2010.

Accession Number: 20101201-5114.

Comment Date: 5 p.m. Eastern Time on Wednesday, December 22, 2010.

Docket Numbers: ER11-2238-000.

Applicants: PPL Electric Utilities Corporation.

Description: PPL Electric Utilities Corporation submits tariff filing per 35: PPL Electric Utilities Corporation's Notice of Change in Status MBR Filing to be effective 11/1/2010.

Filed Date: 12/01/2010.

Accession Number: 20101201-5115.

Comment Date: 5 p.m. Eastern Time on Wednesday, December 22, 2010.

Docket Numbers: ER11-2239-000.

Applicants: PPL EnergyPlus, LLC.

Description: PPL EnergyPlus, LLC submits tariff filing per 35: PPL EnergyPlus, LLC's Notice of Change in Status Market-Based Rate Filing to be effective 11/1/2010.

Filed Date: 12/01/2010.

Accession Number: 20101201-5118.

Comment Date: 5 p.m. Eastern Time on Wednesday, December 22, 2010.

Docket Numbers: ER11-2240-000.

Applicants: PPL Great Works, LLC.

Description: PPL Great Works, LLC submits tariff filing per 35: PPL Great Works, LLC's Notice of Change in Status Market-Based Rate Filing to be effective 11/1/2010.

Filed Date: 12/01/2010.

Accession Number: 20101201-5119.

Comment Date: 5 p.m. Eastern Time on Wednesday, December 22, 2010.

Docket Numbers: ER11-2241-000.

Applicants: PPL Holtwood, LLC.

Description: PPL Holtwood, LLC submits tariff filing per 35: PPL Holtwood, LLC's Notice of Change in Status Market-Based Rate Filing to be effective 11/1/2010.

Filed Date: 12/01/2010.

Accession Number: 20101201-5120.

Comment Date: 5 p.m. Eastern Time on Wednesday, December 22, 2010.

Docket Numbers: ER11-2242-000.

Applicants: PPL Maine, LLC.

Description: PPL Maine, LLC submits tariff filing per 35: PPL Maine, LLC's Notice of Change in Status Market-Based Rate Filing to be effective 11/1/2010.

Filed Date: 12/01/2010.

Accession Number: 20101201-5122.

Comment Date: 5 p.m. Eastern Time on Wednesday, December 22, 2010.

Docket Numbers: ER11-2243-000.

Applicants: PPL Martins Creek, LLC.

Description: PPL Martins Creek, LLC submits tariff filing per 35: PPL Martins Creek, LLC's Notice of Change in Status Market-Based Rate Filing to be effective 11/1/2010.

Filed Date: 12/01/2010.

Accession Number: 20101201-5124.

Comment Date: 5 p.m. Eastern Time on Wednesday, December 22, 2010.

Docket Numbers: ER11-2244-000.

Applicants: PPL Montana, LLC.

Description: PPL Montana, LLC submits tariff filing per 35: PPL Montana, LLC's Notice of Change in Status Market-Based Rates Filing to be effective 11/1/2010.

Filed Date: 12/01/2010.

Accession Number: 20101201-5125.

Comment Date: 5 p.m. Eastern Time on Wednesday, December 22, 2010.

Docket Numbers: ER11-2245-000.

Applicants: PPL Montour, LLC.

Description: PPL Montour, LLC submits tariff filing per 35: PPL Montour, LLC's Notice of Change of Status Market-Based Rate Filing to be effective 11/1/2010.

Filed Date: 12/01/2010.

Accession Number: 20101201-5132.

Comment Date: 5 p.m. Eastern Time on Wednesday, December 22, 2010.

Docket Numbers: ER11-2246-000.

Applicants: PPL New Jersey Biogas, LLC.

Description: PPL New Jersey Biogas, LLC submits tariff filing per 35: PPL New Jersey Biogas, LLC's Notice of Change in Status Market-Based Rate Filing to be effective 11/1/2010.

Filed Date: 12/01/2010.

Accession Number: 20101201-5135.

Comment Date: 5 p.m. Eastern Time on Wednesday, December 22, 2010.

Docket Numbers: ER11-2247-000.

Applicants: PPL New Jersey Solar, LLC.

Description: PPL New Jersey Solar, LLC submits tariff filing per 35: PPL New Jersey Solar, LLC's Notice of Change in Status Market-Based Rate Filing to be effective 11/1/2010.

Filed Date: 12/01/2010.

Accession Number: 20101201-5140.

Comment Date: 5 p.m. Eastern Time on Wednesday, December 22, 2010.

Docket Numbers: ER11-2248-000.

Applicants: PPL Renewable Energy, LLC.

Description: PPL Renewable Energy, LLC submits tariff filing per 35: PPL Renewable Energy, LLC's Notice of Change in Status Market-Based Rate Filing to be effective 11/1/2010.

Filed Date: 12/01/2010.

Accession Number: 20101201-5144.

Comment Date: 5 p.m. Eastern Time on Wednesday, December 22, 2010.

Docket Numbers: ER11-2249-000.

Applicants: PPL Susquehanna, LLC.

Description: PPL Susquehanna, LLC submits tariff filing per 35: PPL Susquehanna, LLC's Notice of Change in Status Market-Based Rate Filing to be effective 11/1/2010.

Filed Date: 12/01/2010.

Accession Number: 20101201-5145.

Comment Date: 5 p.m. Eastern Time on Wednesday, December 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-30937 Filed 12-8-10; 8:45 am]

BILLING CODE 6717-01-P